Proclamation 10648 of October 6, 2023

Columbus Day, 2023

By the President of the United States of America

A Proclamation

Today, we celebrate all the Italian Americans, whose courage and character reflect and help define our Nation.

In 1891, 11 Italian Americans were murdered in one of the largest mass lynchings in our Nation's history. In the wake of this horrific attack, President Benjamin Harrison established Columbus Day in 1892. For so many people across our country, that first Columbus Day was a way to honor the lives that had been lost and to celebrate the hope, possibilities, and ingenuity Italian Americans have contributed to our country since before the birth of our republic.

More than a century later, we mark Columbus Day with that purpose—celebrating the heritage of Italian Americans, whose hands helped build our Nation and whose hearts have always carried faith in the American Dream. For many Italian Americans, the story of Christopher Columbus' voyage—from the Spanish port of Palos de la Frontera on behalf of Queen Isabella I and King Ferdinand II—remains a source of pride. It reflects the stories of trips across the Atlantic that so many Italian Americans grew up hearing at the dinner table, whether tales of ancestors who set sail on wooden boats across rough waters to begin new lives on our shores or grandparents who immigrated here with little more than hope in their hearts. These are stories of people leaving everything they knew and loved behind for the promise of opportunity in the United States.

Today, we honor those stories told around the dinner table and celebrate what these hopeful Italian American newcomers brought to our Nation. Italian Americans are educators, service members, doctors, engineers, artists, Government officials, and leaders and innovators in every field. The Italian American community is also a source of strength for our Nation's enduring relationship with Italy—an essential NATO ally and partner in the European Union. Together, we are working to address the challenges of our time, especially supporting the people of Ukraine in defense of their freedom.

America was founded on an idea: that we are all created equal, endowed by our creator with certain inalienable rights, and deserve to be treated equally throughout our lives. Though we have never fully lived up to that idea, our aspirations have never let us walk away from it either. Today, we honor all the Italian Americans who never walked away from our fundamental creed and who, for generations, have helped realize the full promise of our Nation.

In commemoration of Christopher Columbus' historic voyage 531 years ago, the Congress, by joint resolution of April 30, 1934, and modified in 1968 (36 U.S.C. 107), as amended, has requested the President proclaim the second Monday of October of each year as “Columbus Day.”

NOW, THEREFORE, I, JOSEPH R. BIDEN JR., President of the United States of America, do hereby proclaim October 9, 2023, as Columbus Day. I direct that the flag of the United States be displayed on all public buildings on the appointed day in honor of our diverse history and all who have contributed to shaping this Nation.

IN WITNESS WHEREOF, I have hereunto set my hand this sixth day of October, in the year of our Lord two thousand twenty-three, and of the Independence of the United States of America the two hundred and forty-eighth.

[FR Doc. 2023-22666

Filed 10-11-23; 8:45 am]

Billing code 3395-F4-P